FEDERAL RESERVE SYSTEM

Agency Information Collection Activities: Announcement of Board Approval Under Delegated Authority and Submission to OMB

AGENCY: Board of Governors of the Federal Reserve System.

SUMMARY: The Board of Governors of the Federal Reserve System (Board) is adopting a proposal to implement the New Hire Information Collection (FR 27; OMB No. 7100-new).

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, the Office of Management and Budget (OMB) delegated to the Board authority under the Paperwork Reduction Act (PRA) to approve and assign OMB control numbers to collection of information requests and requirements conducted or sponsored by the Board. Board-approved collections of information are incorporated into the official OMB inventory of currently approved collections of information. Copies of the Paperwork Reduction Act Submission, supporting statements and approved collection of information instrument(s) are placed into OMB's public docket files. The Board may not conduct or sponsor, and the respondent is not required to respond to, an information collection that has been extended, revised, or implemented on or after October 1, 1995, unless it displays a currently valid OMB control number.

Final approval under OMB delegated authority of the implementation of the following information collection:

Report title: New Hire Information Collection.

Agency form number: FR 27.

OMB control number: 7100-new.

Frequency: As needed.

Respondents: Individuals.

Estimated number of respondents: Regular Hires: 312; Intern Hires: 122; Federal Transfers: 10.

Estimated average hours per response: Regular Hires: 1; Intern Hires: 0.75; Federal Transfers: 1.08.

Estimated annual burden hours: 414.3.

General description of report: This information collection would provide for the electronic collection of certain personnel information from new hires using a secure web-based portal, the “New Hire Portal,” before the first day of employment of a new hire. In this way, the Board is proposing to streamline the collection of personnel information from new hires so that much of the information previously collected in hardcopy format from new employees on their first day of employment would be submitted electronically by new hires through the secure web-based New Hire Portal before they become employees of the Board.

Currently, information is collected from new employees during the Board's New Employee Orientation (NEO) in order to complete certain employee on-boarding tasks, such as set up direct deposit, conduct security/background checks, set up computer log-in profiles, establish applicable tax withholdings, determine benefits, and identify dependents, as well as related purposes. Such personnel information currently is submitted by new employees on hardcopy forms during or after NEO. Accordingly, the information collected under the Board's current process is not subject to the PRA, 44 U.S.C. 3501 et seq., because information is only provided to the Board after the respondent has become a Board employee. However, under the proposal, such personnel information predominantly would be collected electronically from new hires through the New Hire Portal before the new hire becomes an employee of the Board. Therefore, the requirements of the PRA would apply to the information collection.

As part of the onboarding process for new hires, a Human Resources professional at the Board would identify the necessary information that must be collected from the new hire, which is dependent upon whether the person will be starting as an intern or starting as a full- or part-time employee, including as a Governor or Board officer, and whether the new hire is transferring from another federal agency. The new hire would then be sent an email asking him or her to provide the personnel information, described below, through the New Hire Portal prior to their official start date.

Legal authorization and confidentiality: The information collected as part of the New Hire Information Collection is authorized pursuant to sections 10(3), 10(4), 11(l), and 11(q) of the Federal Reserve Act, which provides the Board broad authority over employment of staff and security of its building, as well as the authority to determine and prescribe the manner in which its obligations shall be incurred and its expenses allowed and paid (12 U.S.C. 243, 244, 248(l), and 248(q)). In addition, Executive Order 9397 (November 22, 1943) authorizes Federal agencies to use an individual's social security number to identify individuals in agency records.

Providing the information collected as part of the New Hire Information Collection is voluntary. However, if certain information requested as part of the New Hire Information Collection is not provided, then the Board cannot complete the hiring process.

Generally, information collected as part of the New Hire Information Collection will be kept confidential from the public under exemption 6 of the Freedom of Information Act (FOIA) to the extent that the disclosure of the information “would constitute a clearly unwarranted invasion of personal privacy” (5 U.S.C. 552(b)(6)). For example, the release of information such as the new hire's date of birth, home address, home telephone number, or social security number to the public would likely constitute a clearly unwarranted invasion of personal privacy and be kept confidential. However, the release of information such as the educational history of the new hire or the start date of employment would not likely constitute a clearly unwarranted invasion of personal privacy and may be disclosed under the FOIA.

Determinations regarding disclosure to third parties of any confidential portions of the information collection that are considered exempt under the FOIA will be made in accordance with the Privacy Act (5 U.S.C. 552a(b)). Relevant Privacy Act statements are provided when a respondent logs in to the portal and before the respondent is asked to provide any information. The Board may make disclosures in accordance with the Privacy Act's routine use disclosure provision (5 U.S.C. 552a(a)(7) and (b)(3)), which permits the disclosure of a record for a purpose which is compatible with the purpose for which the record was collected. Such routine uses are listed in the specific systems of records notices, which apply to this information collection and which can be found in: (1) The System of Records Notice for BGFRS-1, FRB-Recruiting and Placement Records, located here: https://www.federalreserve.gov/files/BGFRS-1-recruiting-and-placement-records.pdf; (2) the System of Records Notice for BGFRS-4, FRB-General Personnel Records, located here: https://www.federalreserve.gov/files/BGFRS-4-general-personnel-records.pdf; (3) the System of Records Notice for BGFRS-7, FRB—Payroll and Leave Records, located here: https://www.federalreserve.gov/files/BGFRS-7-payroll-and-leave-records.pdf; (4) the System of Records Notice for BGFRS-24, FRB—EEO General Files, located here: https://www.federalreserve.gov/files/BGFRS-24-eeo-general-files.pdf; and/or (5) the System of Records Notice for BGFRS-34, FRB-ESS Staff Identification Card File, located here: https://www.federalreserve.gov/files/BGFRS-34-ess-staff-identification-card-file.pdf.

Current actions: On December 17, 2018, the Board published a notice in the Federal Register (83 FR 64573) requesting public comment for 60 days on the implementation of the FR 27. The comment period for this notice expired on February 15, 2019. The Board did not receive any comments. The collection will be implemented as proposed.

Board of Governors of the Federal Reserve System, March 6, 2019.
Michele Taylor Fennell,
Assistant Secretary of the Board.

[FR Doc. 2019-04301 Filed 3-8-19; 8:45 am]

BILLING CODE 6210-01-P